DEPARTMENT OF HEALTH AND HUMAN SERVICES

Centers for Disease Control and Prevention

[Request for Application (RFA) PS05-107]

Epidemiologic HIV/AIDS Research Among African American and Hispanic Women at Risk for HIV Infection in the Southern United States and Puerto Rico; Notice of Availability of Funds-Amendment

A notice announcing the availability of Fiscal Year (FY) 2005 funds to award a Cooperative Agreement for Epidemiologic HIV/AIDS Research among African American and Hispanic Women at Risk for HIV Infection in the Southern United States and Puerto Rico was published in the Federal Register, June 1, 2005, Volume 70, Number 104, pages 31472-31477.

The notice is amended as follows:

On page 31472, Second column, please change application deadline date to: July 22, 2005.

On page 31473, First column, first paragraph, twelfth line, following the sentence: “Applicants should indicate clearly whether their application pertains to Hispanic or African American women”; please insert the following sentence: “Applicants should select a target population comprised of only Hispanic or African American women, not both.”

On page 31473, Third column, Section II. Award Information, Approximate Average Award, following the sentence: “This amount is for the first 12-month budget period”; please insert the following: “this includes both indirect and direct costs.”

On page 31474, First column, Section III.3 Other, following the bullet: “Priority will be given to applications that include two site investigators—a senior research investigator (10 percent full time effort) and a junior research investigator (30 percent full time effort, who will serve as the primary site investigator)—with direct links to or involvement with the specified study population”; please insert the following sentence: “Applicants who are unable to meet these criteria may apply, but must include one research investigator with demonstrated direct links to or involvement with specified study population who can commit at least 30 percent full time effort during the major phases of this research.”

On page 31475, First column, Section IV.2, Content and Form of Application Submission, after the first paragraph, please insert the following in a new paragraph: “Applicants should provide budgets for four years, but take into account that the first 18 months will be predominantly protocol development (3 months) and IRB and Office of Management and Budget (OMB) review (12-18 months) and will not require full staffing and thus funding will be restricted. Enrollment of the 300-500 women will occur following IRB/OMB approval and is estimated to take 9-12 months. The qualitative component will follow the cross-sectional study. Budgets should contain laboratory costs to cover purchase/processing of rapid oral HIV tests, confirmatory HIV testing, urine testing for gonorrhea and chlamydia, and anticipated costs for shipping of specimens to the CDC-designated laboratory in New York state for STARHS testing.”

On page 31475, First column, IV.3. Submission Dates and Times, Explanation of Deadlines, please delete the first sentence and replace with: “LOIs must be received by the CDC Project Officer and applications must be received in the CDC Procurements and Grants Office by 4 p.m. Eastern Time on the deadline date.”

On page 31475, First column, IV.3. Submission Dates and Times, please change application deadline date to: July 22, 2005.

On page 31475, Second column, IV.3. Submission Dates and Times, Explanation of Deadlines, last paragraph, please delete the third sentence and replace with: “If you still have a question concerning your LOI, contact the CDC Project Officer at 404-639-6117.”

On page 31475, Third column, IV.6 Other Submission Requirements, please delete the following: “Submit your LOI by express mail , delivery service, fax, or E-mail to: Mary Lerchen, DrPH (PS05-107), Scientific Review Administrator, CDC/Office of Public Health Research, 1 West Court Square, Suite 7000, Mailstop D-72, Decatur, Georgia 30030, Telephone: 404-371-5277, Fax 404-371-5215, E-mail: MLerchen@cdc.gov”; and replace with: “Submit your LOI by mail, fax, or E-mail to: Marta Ackers, MD (PS05-107), Project Officer, CDC, NCHSTP, DHAP-SE; 1600 Clifton Road, Mailstop E-45, Atlanta, Georgia 30333, Telephone: 404-639-6117, Fax 404-639-6127, E-mail: MAckers@cdc.gov.”

On page 31475, Third column, IV.6. Other Submission Requirements, second paragraph, under Application Submission Address, please delete the following: “Submit the original and one hard copy * * * ”, and insert: “Submit the original and four hard copies * * * ”

On page 31475, Third column, IV.6. Other Submission Requirements, please delete the third paragraph in its entirety.

On page 31475, Third column, Section V.1. Criteria, please delete the third paragraph in its entirety and replace with the following: “Each application will be evaluated individually against the following criteria by a scientific review group appointed by CDC. Applications will be ranked on a scale of 100 maximum points. Applications will be reviewed and evaluated based on the evidence submitted and the applicant's abilities to meet the following criteria:”

On page 31476, First and Second column, Section V.1. Criteria, please attach the following points to each review criteria: Significance (5 points); Approach (50 points); Innovation (5 points); Investigator (30 points); and Environment (10 points).

On pages 31476 and 31477, Third and First columns respectively, V.2. Review and Selection Process, please delete all the information in this section and replace with the following: “Applications will be reviewed for completeness by the Procurement and Grants Office (PGO) staff, and for responsiveness by NCHSTP. Incomplete applications and applications that are non-responsive to the eligibility criteria will not advance through the review process. Applicants will be notified that their application did not meet submission requirements.”

On page 31477, Second column, VII. Agency Contacts, please delete the following: “For scientific/research issues, contact: Amy L. Sandul, Health Science Administrator, Centers for Disease Control and Prevention, National Center for HIV, STD, and TB Prevention, 1600 Clifton Road, NE., MS E-07, Atlanta, GA 30333, Telephone: 404-639-6485, E-mail: ASandul@cdc.gov”; and replace with: “For scientific/research issues contact: Marta Ackers, MD, Project Officer, 1600 Clifton Road, Mailstop E-45, Atlanta, Georgia 30333, Telephone: 404-639-6117, Fax 404-639-6127, E-mail: MAckers@cdc.gov.”

On page 31477, Second column, VIII. Agency Contacts, please delete the following: “For questions about peer review, contact: Mary Lerchen, DrPH, Scientific Review Administrator, Centers for Disease Control and Prevention, 1 West Court Square, Suite 7000, Mailstop D-72, Decatur, Georgia 30030, Telephone: 404-371-5277, Fax 404-371-5215, E-mail: mlerchen @cdc.gov”; and replace with: “For questions about objective review, contact: Beth Wolfe, Centers for Disease Control and Prevention, 1600 Clifton Road, Mailstop E-07, Atlanta, GA 30333; Telephone: 404-639-8531, E-mail: eow1@cdc.gov”.

Dated: June 27, 2005.
Alan A. Kotch,
Director, Procurement and Grants Office, Centers for Disease Control and Prevention.

[FR Doc. 05-13011 Filed 6-30-05; 8:45 am]

BILLING CODE 4163-18-P